FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel-Operating Common Carrier Ocean Transportation Intermediary Applicants

I.M.A. Limited dba Miracle Brokers International, 207 Sparkys Drive, George Town, Grand Cayman, KY1-1007 Cayman Islands, Officer:Irma M. Arch, Director (Qualifying Individual)

World Wide Cargo Partners, LLC, 7901 Stoneridge Drive, Ste. 117, Pleasanton, CA 94588, Officer:Joyce E. Behringer, Manager (Qualifying Individual)

Non-Vessel-Operating Common Carrier and Ocean Freight Forwarder Transportation Intermediary Applicants

Transmodal Corporation, 48 South Franklin Turnpike, Suite 202, Ramsey, NJ 07446, Officer:Max Angel Kantzer, President (Qualifying Individual)

Scrap Freight Inc., 801 S. Garfield Ave., #101, Alhambra, CA 91803, Officer:Stephen Leng, President (Qualifying Individual)

Magic Transport, Inc., PR-2 KM 19.5 Interior BO. Candelaria, Pepsi Industrial Park, TOA Baja PR 00949, Officers:Jorge Mangual, Asst. Secretary (Qualifying Individual) Carlos Padial, President

Interlogistix, LLC, 5075 Paloma Street, Brighton, CO 80601, Officer:Brad Schmeh (Qualifying Individual)

Guempel Lynnwood Corporation dba GalaxSea Freight Forwarding, 4828 45th Pl., SW, Lynnwood, WA 98087, Officer:Terrina R. Guempel, President (Qualifying Individual)

American Global Logistics LLC, 53 Perimeter Center E., #450, Atlanta, GA 30346, Officer:Otto J. Valdes, Managing Member (Qualifying Individual)

Ocean Freight Forwarder—Ocean Transportation Intermediary Applicants

Upakweship, Inc., 1629 Folly Rd., Charleston, SC 29412, Officer:Mark A. Nash, President (Qualifying Individual)

Dated: June 11, 2009.
Tanga S. FitzGibbon,
Assistant Secretary.

[FR Doc. E9-14161 Filed 6-15-09; 8:45 am]

BILLING CODE 6730-01-P